DEPARTMENT OF TRANSPORTATION

Federal Aviation Administration

14 CFR Part 39

[Docket No. 2004-NM-36-AD]

RIN 2120-AA64

Airworthiness Directives; Empresa Brasileira de Aeronautica S.A. (EMBRAER) Model EMB-135BJ and EMB-145XR Series Airplanes

AGENCY: Federal Aviation Administration, DOT.

ACTION: Supplemental notice of proposed rulemaking; reopening of comment period.

SUMMARY: This document revises an earlier proposed airworthiness directive (AD), applicable to certain EMBRAER Model EMB-135BJ and EMB-145XR series airplanes, that would have required installation of an additional indication device to the clear-ice indication system. This new action revises the proposed rule by changing the description of the unsafe condition, and by adding instructions for modifying certain existing circuits, replacing an existing indicator lamp with a new, improved lamp, and performing other required corrections/modifications. The actions specified by this new proposed AD are intended to prevent undetected build-up of clear ice on the wing surfaces, which could lead to reduced controllability of the airplane. This action is intended to address the identified unsafe condition.

DATES: Comments must be received by July 18, 2005.

ADDRESSES: Submit comments in triplicate to the Federal Aviation Administration (FAA), Transport Airplane Directorate, ANM-114, Attention: Rules Docket No. 2004-NM-36-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2004-NM-36-AD” in the subject line and need not be submitted in triplicate. Comments sent via the Internet as attached electronic files must be formatted in Microsoft Word 97 or 2000 or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2004-NM-36-AD.” The postcard will be date stamped and returned to the commenter.

Availability of NPRMs

Any person may obtain a copy of this NPRM by submitting a request to the FAA, Transport Airplane Directorate, ANM-114, Attention: Rules Docket No. 2004-NM-36-AD, 1601 Lind Avenue, SW., Renton, Washington 98055-4056.

Discussion

A proposal to amend part 39 of the Federal Aviation Regulations (14 CFR part 39) to add an airworthiness directive (AD), applicable to certain EMBRAER Model EMB-135BJ and EMB-145XR series airplanes, was published as a notice of proposed rulemaking (NPRM) in the Federal Register on May 3, 2004 (69 FR 24095). The original NPRM would have required installation of an additional indication device to the clear-ice indication system. The original NPRM was prompted by a report that a risk assessment has shown that the reliability level of the clear-ice indication system is not sufficient. The original NPRM stated that that condition, if not corrected, could result in an undetected in-flight buildup of clear ice on airplane control surfaces, which could lead to reduced controllability of the airplane.

Comments

Due consideration has been given to the comments received in response to the original NPRM.

Support for the Original NPRM

One commenter supports the original NPRM and asserts support for all actions related to improved detection of airframe icing.

Request To Revise Unsafe Condition

Another commenter, the manufacturer, requests that the description of the unsafe condition be revised. The commenter states that “* * * undetected in-flight buildup of clear ice on airplane control surfaces, * * *” is not correct, since the clear ice system operates only when the airplane is on the ground, and that the ice builds up on the “wing surfaces,” not the “airplane control surfaces.”

We agree with this request. We have determined that the description of the unsafe condition as written in the original NPRM is incorrect, and have therefore revised the wording to read ”* * * undetected buildup of clear ice on the wing surfaces, “* * *” in this supplemental NPRM.

Request To Cite New Service Information

The same commenter requests that we change the citations for applicable service information specified in the original NPRM. The commenter states that it has received reports of problems in accomplishing the service bulletins and has issued new revisions. These service bulletins include the following revisions:

• Changed and restructured effectivity;

• Additional instructions added to the Accomplishment Instructions; and

• Changes and additions to certain parts kits, text, and figures.

The commenter also states that the concurrent accomplishment of EMBRAER Service Bulletin 145LEG-25-0027, dated May 7, 2003, is unnecessary and should be deleted. The commenter states that the concurrent service bulletin has no effect on correcting the unsafe condition.

The commenter requests that the original NPRM be revised to reference these revised service bulletins as the appropriate sources of information for accomplishing the specified actions.

We agree with this request. We have determined that the revisions to the service bulletins clarify and improve operator ability to correct the unsafe condition and that the specified concurrent action is unnecessary. Therefore, we have revised the supplemental NPRM to reference EMBRAER Service Bulletins 145-30-0035, Revision 02 (for Model EMB-145XR series airplanes), dated January 6, 2005; and 145LEG-30-0002, Revision 01 (for Model EMB-135BJ series airplanes), dated January 4, 2005; as the appropriate sources of service information for accomplishing the proposed actions. We have revised the Cost Impact and Applicability sections and paragraphs (a), (b), and (c) of the supplemental NPRM; deleted paragraph (d) of the original NPRM; and reidentified paragraph (e) of the supplemental NPRM accordingly.

The Departmento de Aviacao Civil (DAC), which is the airworthiness authority for Brazil, approved EMBRAER Service Bulletins 145-30-0035, Revision 02, and 145LEG-30-0002, Revision 01, but, at this time, does not intend to revise Brazilian airworthiness directive 2004-01-01, dated January 27, 2004 (which the original NPRM references as the Brazillian airworthiness directive that parallels the original NPRM). The DAC does not consider it neccessary to revise Brazilian airworthiness directive 2004-01-01 because that airworthiness directive refers to EMBRAER Service Bulletins 145-30-0035, Revision 01, and 145LEG-30-0002, or further approved revisions, as the acceptable sources of service information for certain actions in that airworthiness directive. However, as stated above, we have determined that it is necessary to issue a supplemental NPRM and reopen the comment period to provide additional opportunity for public comment. We have coordinated this issue with the DAC.

Conclusion

Since these changes expand the scope of the originally proposed rule, the FAA has determined that it is necessary to reopen the comment period to provide additional opportunity for public comment.

Cost Impact

The FAA estimates that about 49 airplanes of U.S. registry would be affected by this proposed AD. The average labor rate is $65 per work hour.

For 41 Model EMB-145XR airplanes, it would take 16 work hours per airplane to accomplish the proposed actions. Required parts would cost between $242 and $817 per airplane. Based on these figures, the cost impact of the proposed AD on U.S. operators of Model EMB-145XR airplanes is estimated to be between $52,562 and $76,137, or between $1,282 and $1,857 per airplane.

For 8 Model EMB-135BJ airplanes, it would take 16 work hours per airplane to accomplish the proposed actions. Required parts would cost between $240 and $820 per airplane. Based on these figures, the cost impact of the proposed AD on U.S. operators of Model EMB-135BJ airplanes is estimated to be between $10,240 and $14,856, or between $1,280 and $1,857 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira de Aeronautica S.A. (EMBRAER): Docket 2004-NM-36-AD.

Applicability: Model EMB-145XR series airplanes, as listed in EMBRAER Service Bulletin 145-30-0035, Revision 02, dated January 6, 2005; and Model EMB-135BJ series airplanes, as listed in EMBRAER Service Bulletin 145LEG-30-0002, Revision 01, dated January 4, 2005; certificated in any category.

Compliance: Required as indicated, unless accomplished previously.

To prevent undetected build-up of clear ice on the wing surfaces, which could lead to reduced controllability of the airplane, accomplish the following:

Modification of Clear-Ice Indication System

(a) For Model EMB-145XR series airplanes: Within 24 months or 5,000 flight hours after the effective date of this AD, whichever comes first, perform the actions specified in paragraphs (a)(1) and (a)(2) of this AD, as applicable, in accordance with the Accomplishment Instructions of EMBRAER Service Bulletin 145-30-0035, Revision 02, dated January 6, 2005.

(1) Install complete electrical connections and provisions to add an additional indication device to the clear-ice indication system, as specified in the Accomplishment Instructions, Part I.

(2) Replace the existing clear-ice indication lamp with a new lamp having a new part number, as specified in the Accomplishment Instructions, Part II.

(b) For Model EMB-135BJ series airplanes: Within 24 months or 5,000 flight hours after the effective date of this AD, whichever comes first, perform the actions of paragraphs (b)(1), (b)(2), (b)(3), and (b)(4) of this AD, as applicable, in accordance with the Accomplishment Instructions of EMBRAER Service Bulletin 145LEG-30-0002, Revision 01, dated January 4, 2005.

(1) Install complete electrical connections and provisions to add an additional indication device to the clear-ice indication system, as specified in the Accomplishment Instructions, Part I.

(2) Modify the electrical connections of factory-provisioned airplanes to add an additional indication device to the clear-ice indication system, as specified in the Accomplishment Instructions, Part II.

(3) Remove the “Clear-Ice Inoperative” placard and reactivate the clear-ice additional indicator lamp, as specified in the Accomplishment Instructions, Part III.

(4) Replace the existing clear-ice indicator lamp with a new, improved lamp having a new part number, as specified in the Accomplishment Instructions, Part IV or Part V.

Actions Accomplished per Previous Issues of Service Bulletins

(c) Actions accomplished before the effective date of this AD in accordance with Part I of EMBRAER Service Bulletin 145-30-0035, dated July 16, 2003, or Revision 01, dated September 2, 2003; or Part I, Part II, and Part III of EMBRAER Service Bulletin 145LEG-30-0002, dated September 2, 2004; as applicable; are considered acceptable for compliance with the corresponding actions specified in this AD.

Alternative Methods of Compliance

(d) In accordance with 14 CFR 39.19, the Manager, International Branch, ANM-116, FAA, Transport Airplane Directorate, is authorized to approve alternative methods of compliance for this AD.

Note 1: The subject of this AD is addressed in Brazilian airworthiness directive 2004-01-01, dated January 27, 2004.

Issued in Renton, Washington, on June 14, 2005.
Kevin M. Mullin,
Acting Manager, Transport Airplane Directorate, Aircraft Certification Service.

[FR Doc. 05-12314 Filed 6-21-05; 8:45 am]

BILLING CODE 4910-13-P